GENERAL SERVICES ADMINISTRATION

[Notice-FTR-2014-01; Docket No: 2014-0004; Sequence 1:

GSA Bulletin FTR 14-04] Federal Travel Regulation (FTR); Relocation Allowances—Standard Mileage Rate for Moving Purposes

AGENCY: Office of Government-wide Policy, U.S. General Services Administration (GSA).

ACTION: Notice of a bulletin.

SUMMARY: The U.S. General Services Administration (GSA) published FTR Amendments 2007-03, June 27, 2007, and 2007-06, December 11, 2007, in the Federal Register (72 FR 35187 and 72 FR 70234 respectively) specifying that the Internal Revenue Service (IRS) Standard Mileage Rate for moving purposes would be the rate at which agencies will reimburse an employee for using a Privately Owned Vehicle (POV) for relocation worldwide. The amendment indicated that the change to the IRS Standard Mileage Rate for moving purposes applied to relocations on and after September 25, 2007, and that GSA would publish a bulletin announcing any changes to that rate made by the IRS thereafter. On December 6, 2013, the IRS announced that as of January 1, 2014, the relocation mileage rate would decrease to $0.235 per mile for the 12-month period ending on December 31, 2014. Thus, the reimbursement rate for POVs used in conjunction with official relocation will also be $0.235 for the same period. FTR Bulletin 14-04 is attached. FTR Bulletin 14-04 and all other FTR bulletins may be found at www.gsa.gov/federaltravelregulation.

DATES: This notice is effective January 29, 2014 and applies to relocations performed on or after January 1, 2014, through December 31, 2014.

FOR FURTHER INFORMATION CONTACT: Mr. Ed Davis, GSA, Office of Government-wide Policy (M), Office of Asset and Transportation Management (MA), at 202-208-7638 or via email at ed.davis@gsa.gov. Please cite FTR Bulletin 14-04.

Dated: January 17, 2014.
Anne E. Rung,
Associate Administrator, Office of Government-wide Policy.

[FR Doc. 2014-01705 Filed 1-28-14; 8:45 am]

BILLING CODE 6820-14-P